DEPARTMENT OF COMMERCE

Patent and Trademark Office

[Docket No. PTO-T-2021-0051]

USPTO To Begin Issuing Electronic Trademark Registration Certificates

Correction

In Notice document 2021-27116, appearing on pages 71249 through 71250, in the issue of Wednesday, December 15, 2021, make the following correction:

On page 71249, in the third column, in the standard heading titled “DATES:”, the date reading “December 15, 2021” should read “January 14, 2022”.

[FR Doc. C1-2021-27116 Filed 12-17-21; 8:45 am]

BILLING CODE 0099-10-D